DEPARTMENT OF ENERGY

Federal Energy Regulatory Commission

[Docket Nos. CP17-495-003; CP17-494-003]

Jordan Cove Energy Project, L.P., Pacific Connector Gas Pipeline, LP; Notice of Petition for Declaratory Order

Take notice that on April 21, 2020, pursuant to section 385.207 of the Federal Energy Regulatory Commission's (Commission) Rules of Practice and Procedure, 18 CFR 385.207 (2019), Jordan Cove Energy Project, L.P. (Jordan Cove) and Pacific Connector Gas Pipeline, LP (Pacific Connector) filed a Petition for Declaratory Order (Petition) finding that the Oregon Department of Environmental Quality waived its authority to issue certification for the Jordan Cove LNG Terminal and Pacific Connector Pipeline under Section 401 of the Clean Water Act, 33 U.S.C. 1341(a)(1) (2018), as more fully explained in the petition.

Any person wishing to comment on Jordan Cove and Pacific Connector's petition may do so.¹ The deadline for filing comments is 30 days from the issuance of this notice. The Commission encourages electronic submission of comments in lieu of paper using the eFiling link at http://www.ferc.gov. Persons unable to file electronically should send comments to the following address: Federal Energy Regulatory Commission, 888 First Street NE, Washington, DC 20426. Hand delivered submissions in docketed proceedings should be delivered to Health and Human Services, 12225 Wilkins Avenue, Rockville, Maryland 20852. Be sure to reference the docket numbers (CP17-495-003 and CP17-494-003) with your submission.

¹ Jordan Cove and Pacific Connector's request is related to their NGA section 3 and 7 proceedings in Docket Nos. CP17-494 and CP17-495. Thus, any person that intervened in those proceedings is already a party. The filing of the petition in this case does not trigger a new opportunity to intervene.

In addition to publishing the full text of this document in the Federal Register, the Commission provides all interested persons an opportunity to view and/or print the contents of this document via the internet through the Commission's Home Page (http://www.ferc.gov) using the eLibrary link. Enter the docket number excluding the last three digits in the docket number field to access the document. At this time, the Commission has suspended access to Commission' s Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Comment Date: 5:00 p.m. Eastern Time on June 4, 2020.

Dated: May 5, 2020.
Nathaniel J. Davis, Sr.,
Deputy Secretary.

[FR Doc. 2020-10003 Filed 5-8-20; 8:45 am]

BILLING CODE 6717-01-P